DEPARTMENT OF THE INTERIOR

Bureau of Ocean Energy Management

[Docket No. BOEM-2022-0021]

Notice of Availability of a Draft Environmental Impact Statement for Ocean Wind, LLC's Proposed Wind Energy Facility Offshore New Jersey

AGENCY: Bureau of Ocean Energy Management (BOEM), Interior.

ACTION: Notice of availability; draft environmental impact statement.

SUMMARY: BOEM announces the availability of the draft environmental impact statement (DEIS) for the construction and operations plan (COP) submitted by Ocean Wind, LLC (Ocean Wind) for its proposed Ocean Wind 1 Offshore Wind Farm Project (Project) offshore New Jersey. The DEIS analyzes the potential environmental impacts of the Project as described in the COP (the proposed action) and the alternatives to the proposed action. This notice of availability (NOA) announces the start of the public review and comment period, as well as the dates and times for virtual public hearings on the DEIS. After BOEM holds the public hearings and addresses comments provided, BOEM will publish a final environmental impact statement (EIS). The EIS will inform BOEM's decision whether to approve, approve with modifications, or disapprove the COP.

DATES: Comments must be received no later than August 8, 2022. BOEM's virtual public hearings will be held at the following dates and times (eastern time).

• Thursday, July 14, 2022; 1:00 p.m.

• Wednesday, July 20, 2022; 5:00 p.m.; and,

• Tuesday, July 26, 2022; 5:00 p.m.

Registration for the virtual public hearings may be completed here: https://www.boem.gov/renewable-energy/state-activities/ocean-wind-1 or by calling (703) 787-1520.

ADDRESSES: The DEIS and detailed information about the Project, including the COP, can be found on BOEM's website at: https://www.boem.gov/renewable-energy/state-activities/ocean-wind-1. Comments can be submitted in any of the following ways:

• In written form by mail, enclosed in an envelope labeled “Ocean Wind 1 COP DEIS” and addressed to Program Manager, Office of Renewable Energy, Bureau of Ocean Energy Management, 45600 Woodland Road, Sterling, VA 20166.

• Through the regulations.gov web portal: Navigate to http://www.regulations.gov and search for Docket No. BOEM-2022-0021. Click on the “Comment” button below the document link. Enter your information and comment, then click “Submit Comment.”

A registration link for each of the virtual public hearings is provided on BOEM's website at: https://www.boem.gov/renewable-energy/state-activities/ocean-wind-1.

FOR FURTHER INFORMATION CONTACT: Michelle Morin, BOEM Office of Renewable Energy Programs, 45600 Woodland Road, Sterling, Virginia 20166, (703) 787-1722 or michelle.morin@boem.gov.

SUPPLEMENTARY INFORMATION:

Proposed Action: Ocean Wind seeks approval to construct, operate, and maintain the Project: a wind energy facility and its associated export cables on the Outer Continental Shelf (OCS) offshore New Jersey. The Project would be developed within the range of design parameters outlined in the Ocean Wind 1 COP, subject to applicable mitigation measures. The Project as proposed in the COP would include up to 98 wind turbine generators (WTGs), up to 3 offshore high voltage alternating current substations, inter-array cables linking the individual turbines to the offshore substations, substation interconnector cables linking the substations to each other, offshore export cables, an onshore export cable system, 2 onshore substations, and connections to the existing electrical grid in New Jersey. The WTGs and offshore substations, inter-array cables, and substation interconnector cables would be located on the OCS approximately 13 nautical miles (15 statute miles) southeast of Atlantic City, New Jersey, within the area defined by Renewable Energy Lease OCS-A 0498 (Lease Area). The offshore export cables would be buried below the seabed surface in the OCS and State of New Jersey owned submerged lands. The onshore export cables, substations, and grid connections would be located in Ocean County and Cape May County, New Jersey.

Alternatives: BOEM considered 26 alternatives when preparing the DEIS and carried forward 6 alternatives for further analysis in the DEIS. These six alternatives include five action alternatives and the no action alternative. Twenty alternatives were rejected because they did not meet the purpose and need for the proposed action or did not meet screening criteria, which are presented in DEIS appendix C. The screening criteria included consistency with law and regulations; technical and economic feasibility; environmental impact; and geographic considerations.

Availability of the DEIS: The DEIS, Ocean Wind 1 COP, and associated information are available on BOEM's website at: https://www.boem.gov/renewable-energy/state-activities/ocean-wind-1. BOEM has distributed digital copies of the DEIS to all parties listed in DEIS appendix K, which also includes the location of all libraries receiving a copy. If you require a flash drive or paper copy, BOEM will provide one upon request, as long as copies are available. You may request a flash drive or paper copy of the DEIS by calling (703) 787-1520.

Cooperating Agencies: The following nine Federal agencies and State governmental entities participated as cooperating agencies in the preparation of the DEIS: Bureau of Safety and Environmental Enforcement; U.S. Environmental Protection Agency; National Marine Fisheries Service; U.S. Army Corps of Engineers; U.S. Coast Guard; U.S. Fish and Wildlife Service, Department of Defense; New Jersey Department of Environmental Protection; and New York State Department of State. The National Park Service participated as a participating agency.

Information on Submitting Comments: BOEM does not consider anonymous comments. Please include your name and address as part of your comment. BOEM makes all comments, including the names and addresses of respondents, available for public review online and during regular business hours. Individual respondents may request that BOEM withhold their names, addresses, or any other personal identifiable information (PII) included in their comment from the public record; however, BOEM cannot guarantee that it will be able to do so. If you wish your name, address, or other PII to be withheld, you must state your request prominently in a cover letter and explain the harm that you fear from its disclosure such as unwarranted privacy invasion, embarrassment, or injury. All submissions from organizations or businesses and from individuals identifying themselves as representatives or officials of organizations or businesses will be made available for public inspection in their entirety.

Authority: 42 U.S.C. 4231 et seq. (NEPA, as amended) and 40 CFR 1506.6.

William Y. Brown,
Chief Environmental Officer, Bureau of Ocean Energy Management.

[FR Doc. 2022-13490 Filed 6-23-22; 8:45 am]

BILLING CODE 4310-MR-P